CONSUMER PRODUCT SAFETY COMMISSION

[Docket No. CPSC-2010-0075]

Proposed Extension of Approval of Information Collection; Comment Request—Safety Standards for Full-Size Baby Cribs and Non-Full-Size Baby Cribs

AGENCY: Consumer Product Safety Commission.

ACTION: Notice.

SUMMARY: As required by the Paperwork Reduction Act of 1995 (44 U.S.C. chapter 35), the Consumer Product Safety Commission (CPSC or Commission) requests comments on a proposed request for extension of approval of a collection of information for the safety standards for full-size baby cribs and non-full-size baby cribs. The Office of Management and Budget (OMB) previously approved the collection of information under control number 3041-0147. OMB's approval will expire on February 28, 2014. The Commission will consider all comments received in response to this notice before requesting an extension of approval of this collection of information from OMB.

DATES: The Office of the Secretary must receive comments not later than February 24, 2014.

ADDRESSES: You may submit comments, identified by Docket No. CPSC-2010-0075, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions in the following way: Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2010-0075, into the “Search” box, and follow the prompts.

FOR FURTHER INFORMATION CONTACT: For further information contact: Robert H. Squibb, Consumer Product Safety Commission, 4330 East West Highway, Bethesda, MD 20814; (301) 504-7815, or by email to: rsquibb@cpsc.gov.

SUPPLEMENTARY INFORMATION:

A. Background

Section 104(b) of the Consumer Product Safety Improvement Act of 2008 (CPSIA), Public Law 110-314, 122 Stat. 3016 (August 14, 2008), requires the Consumer Product Safety Commission (Commission or CPSC) to promulgate consumer product safety standards for durable infant or toddler products. These standards are to be “substantially the same as” applicable voluntary standards or more stringent than the voluntary standard if the Commission concludes that more stringent requirements would further reduce the risk of injury associated with the product. The Commission issued safety standards for full-size and non-full-size baby cribs in response to the direction contained in section 104(b) of the CPSIA.

1. Full-Size Cribs

On December 28, 2010, the Commission published a final rule for full-size cribs that incorporated by reference ASTM F1169-10, Standard Consumer Safety Specification for Full-Size Baby Cribs, with modifications. 75 FR 81766. On December 9, 2013, the Commission adopted the revised ASTM standard for full-size cribs, ASTM F1169-13, which was codified at 16 CFR part 1219. 78 FR 73692.

Sections 8 and 9 of the ASTM F1169-13 contain requirements for marking, labeling, and instructional literature that fall within the definition of “collections of information” at 5 C.F.R. § 1320.3(c). Section 9 of ASTM F1169-13 also requires full-size cribs to be provided with instructions regarding assembly, maintenance, cleaning, storage, and use, an assembly drawing, a list and description of all parts and tools required for assembly, and a full-size diagram of the required bolts and other fasteners, as well as a variety of warnings.

2. Non-Full-Size Cribs

On December 28, 2010, in the final rule on full-size cribs, the Commission also addressed non-full-size cribs. The Commission incorporated by reference ASTM F 406-10a, Standard Consumer Safety Specification for Non-Full-Size Baby Cribs, with modifications, which was codified at 16 CFR part 1220. 75 FR 81766.

Sections 9 and 10 of ASTM F406-10a, contain requirements for marking, labeling, and instructional literature that fall within the definition of “collections of information” at 5 C.F.R. § 1320.3(c). Section 10 of ASTM F406-10a also requires non-full-size cribs to be provided with instructions regarding assembly, maintenance, cleaning, storage, and use, as well as a variety of warnings.

B. Total Burden Hours

1. Crib Suppliers

There are 78 known firms supplying full-size cribs to the U.S. market and 24 supplying non-full-size cribs. All firms are assumed to use compliant labels already on both their products and their packaging. If firms needed to make some modifications to their existing labels the estimated time required to make these modifications is about one hour per model. Each firm supplies approximately 11 different models of full-size cribs and four different models of non-full-size cribs; therefore, the estimated burden hours associated with the labels is ((1 hour × 78 firms × 11 models per firm) + (1 hour × 24 firms × 4 models per firm) = 954 annual hours.

Section 9 of ASTM F1169-11 and section 10 of ASTM F406-10a require instructions to be supplied with the product. This is a practice that is usual and customary with both full-size and non-full-size cribs. Cribs are products that generally require some installation and maintenance instructions, and any products sold without such information would not be able to compete successfully with products that provide this information. Any burden associated with supplying instructions with full-size cribs and non-full-size cribs would be “usual and customary” and not within the definition of “burden” under OMB's regulations. 5 CFR 1320.3(b)(2).

We estimate that hourly compensation for the time required to create and update labels is $27.66 (U.S. Bureau of Labor Statistics, “Employer Costs for Employee Compensation,” June 2013, Table 9, total compensation for all sales and office workers in goods-producing private industries: http://www.bls.gov/ncs/). Therefore, the estimated annual cost associated with the proposed requirements is $26,388 ($27.66 per hour × 954 hours).

2. Federal Government

The estimated annual cost of the information collection requirements to the federal government is approximately $3,527, which includes 60 staff hours to examine and evaluate the information as needed for Compliance activities. This is based on a GS-12 level salaried employee. The average hourly wage rate for a mid-level salaried GS-12 employee in the Washington, DC, metropolitan area (effective as of January 2011) is $40.80 (GS-12, step 5). This represents 69.4 percent of total compensation (U.S. Bureau of Labor Statistics, “Employer Costs for Employee Compensation,” June 2013, Table 1, percentage of wages and salaries for all civilian management, professional, and related employees, http://www.bls.gov/ncs/). Adding an additional 30.6 percent for benefits brings average hourly compensation for a mid-range salaried GS-12 employee to $58.78. Assuming that approximately 60 hours will be required annually, this results in an annual cost of $3,527.

C. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Dated: December 19, 2013.
Todd A. Stevenson,
Secretary, Consumer Product Safety Commission.

[FR Doc. 2013-30644 Filed 12-23-13; 8:45 am]

BILLING CODE 6355-01-P